DEPARTMENT OF COMMERCE

National Oceanic and Atmospheric Administration

50 CFR Part 660

[Docket No. 220510-0113; RTID 0648-XC858]

Fisheries Off West Coast States; Modification of the West Coast Salmon Fisheries; Inseason Actions #48 Through #50

AGENCY: National Marine Fisheries Service (NMFS), National Oceanic and Atmospheric Administration (NOAA), Commerce.

ACTION: Inseason modification of 2022-2023 management measures.

SUMMARY: NMFS announces three inseason actions for the 2023 portion of the 2022-2023 ocean salmon fishing season. These inseason actions modify the recreational and commercial salmon fisheries in the area from Cape Falcon, OR, to the U.S./Mexico border.

DATES: The effective dates for the inseason actions are set out in this document under the heading Inseason Actions and the actions remain in effect until superseded or modified.

FOR FURTHER INFORMATION CONTACT: Shannon Penna at 562-980-4239, Email: Shannon.Penna@noaa.gov.

SUPPLEMENTARY INFORMATION:

Background

The annual management measures for the 2022-2023 ocean salmon fisheries (87 FR 29690, May 16, 2022) govern the commercial and recreational fisheries in the area from the U.S./Canada border to the U.S./Mexico border, effective from 0001 hours Pacific Daylight Time (PDT), May 16, 2022, until the effective date of the 2023-2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the SOF commercial and recreational salmon fisheries, as set out under the heading Inseason Actions below.

Consultations with the Council Chairperson on these inseason actions occurred on March 9, 2023. Representatives from NMFS, Oregon Department of Fish and Wildlife (ODFW), California Department of Fish and Wildlife (CDFW) and Council staff participated in these consultations. The Salmon Advisory Subpanel and Salmon Technical Team (STT) were also present.

These inseason actions were announced on NMFS' telephone hotline and U.S. Coast Guard radio broadcast on the date of the consultations (50 CFR 660.411(a)(2)).

Inseason Actions

Reason and authorization for inseason actions #48-#50

At its March 4-10, 2023, meeting, the STT presented updated stock abundance forecasts for salmon stocks managed under the Pacific Coast Salmon Fishery Management Plan (FMP). Based on the STT's report, SOF ocean salmon fisheries will be constrained in 2023 by the very low abundance forecasts for Klamath River fall-run Chinook (KRFC) salmon and Sacramento River fall-run Chinook (SRFC) salmon. KRFC salmon continue to meet the criteria as overfished, which was determined under the Magnuson-Stevens Fishery Conservation and Management Act (MSA) in 2018, and SRFC salmon is currently at risk of approaching an overfished condition. KRFC Chinook salmon expected abundance is low enough that the stock will be managed under the de minimus provisions of the harvest control rule in the Pacific Coast Salmon Fishery Management Plan (FMP). In addition, the abundance of these stocks has been substantially over-forecast in recent years, and escapements have been much lower than anticipated preseason. The forecast of potential spawner abundance is derived from the ocean abundance forecasts, ocean natural mortality rates, age-specific maturation rates, stray rates, and the proportion of escapement expected to spawn in natural areas. To reduce the impacts on KRFC salmon and SRFC salmon and respond to the forecasts, NMFS took three inseason actions on March 9, 2023, concurrent with the March Council meeting to restrict some fisheries that were previously scheduled to open prior to May 16, 2023 (87 FR 29690, May 16, 2022).

The NMFS West Coast Regional Administrator (RA) considered the abundance forecasts for Chinook salmon stocks and the projected impacts in the ocean salmon fisheries, as modeled by the STT, and determined that the inseason actions described below are necessary to meet management and conservations goals set preseason. These inseason actions modify quotas and/or fishing seasons under 50 CFR 660.409(b)(1)(i).

Inseason Action #48

Description of the action: Inseason action #48 modifies the SOF commercial salmon troll fishery from Cape Falcon, OR, to the Heceta Bank Line (lat. 43°58′00″ N), OR; Heceta Bank Line (lat. 43°58′00″ N), OR, to Humbug Mountain, OR; and Humbug Mountain, OR, to the Oregon/California border, previously scheduled to open on March 15, 2023. This fishery is closed through May 15, 2023.

Effective date: Inseason action #48 took effect on March 15, 2023, at 12:01 a.m. and remains in effect until superseded.

Inseason Action #49

Description of the action: Inseason action #49 modifies the SOF ocean salmon recreational fishery from Cape Falcon, OR, to Humbug Mountain, OR, previously scheduled to open on March 15, 2023. This fishery is closed through May 15, 2023.

Effective date: Inseason action #49 took effect on March 15, 2023, at 12:01 a.m. and remains in effect until superseded.

Inseason Action #50

Description of the action: Inseason action #50 modifies the ocean salmon recreational fishery and the salmon troll commercial fishery from the Oregon/California border to the U.S./Mexico border. These fisheries are closed through May 15, 2023.

Effective dates: Inseason action #50 takes effect for the following areas and dates, and remains in effect until superseded.

• Effective May 1, 2023 at 12:01 a.m. for the salmon troll commercial fishery from the Oregon/California border to Humboldt South Jetty (California Klamath Management Zone).

• Effective April 16, 2023 at 12:01 a.m. for the salmon troll commercial fishery from lat. 40° 10′ N to Point Arena, CA (Fort Bragg management area).

• Effective May 1, 2023 at 12:01 a.m. for the salmon troll commercial fishery from Point Arena, CA, to Pigeon Point, CA (San Francisco management area).

• Effective May 1, 2023 at 12:01 a.m. for the salmon troll commercial fishery from Pigeon Point, CA, to the U.S./Mexico border (Monterey management area).

• Effective May 1, 2023 at 12:01 a.m. for the ocean salmon recreational fishery from the Oregon/California border to lat. 40° 10′ N (California Klamath Management Zone management area).

• Effective April 1, 2023 at 12:01 a.m. for the ocean salmon recreational fishery from lat. 40° 10′ N to Point Arena, CA (Fort Bragg management area).

• Effective April 1, 2023 at 12:01 a.m. for the ocean salmon recreational fishery from Point Arena, CA, to Pigeon Point, CA (San Francisco management area).

• Effective April 1, 2023 at 12:01 a.m. for the ocean salmon recreational fishery from Pigeon Point, CA to the U.S./Mexico border (Monterey management area).

All other restrictions and regulations remain in effect as announced for the 2022-2023 ocean salmon fisheries (87 FR 29690, May 16, 2022), as modified by previous inseason actions (87 FR 41260, July 12, 2022; 87 FR 49534, August 11, 2022; 87 FR 52353, August 25, 2022; 87 FR 54171, September 2, 2022; 87 FR 60105, October 4, 2022; 87 FR 66609, November 4, 2022).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles; 5.6-370.4 kilometers) off the coasts of the states of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory actions was provided to fishers through telephone hotline and radio notification. These actions comply with the requirements of the annual management measures for ocean salmon fisheries (87 FR 29690, May 16, 2022), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: April 4, 2023.
Jennifer M. Wallace,
Acting Director, Office of Sustainable Fisheries, National Marine Fisheries Service.

[FR Doc. 2023-07352 Filed 4-7-23; 8:45 am]

BILLING CODE 3510-22-P